DEPARTMENT OF HEALTH AND HUMAN SERVICES

Centers for Disease Control and Prevention

[30DAY-38-01]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project: Validation of Self-Reported Arthritis Case Definitions in a Managed Care Setting—New—National Center for Chronic Disease Prevention and Health Promotion (NCCDPHP), Centers for Disease Control and Prevention (CDC). It is difficult to estimate the burden of arthritis on the American public because many patients with arthritis do not seek treatment from a health care provider for the condition. The Behavioral Risk Factor Surveillance System (BRFSS) is an ongoing telephone survey that is being used by individual states and the CDC to measure the burden of arthritis. The BRFSS collects a wide variety of self-reported health information, including 6 questions on arthritis. A BRFSS case of arthritis is defined as any person who reports chronic joint symptoms or recalls a diagnosis of arthritis by a health care provider. However, the BRFSS case definition has not been validated, meaning it is unclear if patients who report arthritis symptoms or a diagnosis of arthritis truly have arthritis based on a clinical evaluation by a health care provider. It is also not known if persons who deny chronic joint symptoms and do not recall a diagnosis of arthritis are free of the condition. It is essential to know the validity of the BRFSS case definition because this survey is currently being used to estimate the burden of arthritis on the population.

To assess whether the BRFSS case definition of arthritis is valid, patients aged 45 and older who are enrolled in the Fallon Clinic, (a health maintenance organization in central and eastern Massachusetts), and have an upcoming annual physical examination with a primary care physician will be identified through the computerized appointment system. A letter will be sent to 2,100 patients aged 45 to 64 and 2,900 patients aged 65 and older two weeks prior to their scheduled visit informing them of this study and that a research assistant will be calling to conduct a 10 minute interview in the next few days. The telephone survey will identify patients in each age group (aged 45 to 64 and aged 65 and older), who fall into the four following categories: (1) Chronic joint symptoms without a diagnosis of arthritis from a health care provider; (2) a diagnosis of arthritis by a health care provider without chronic joint symptoms; (3) both chronic joint symptoms and a diagnosis of arthritis by a health care provider; and (4) no chronic joint symptoms and no diagnosis of arthritis by a health care provider. A standardized history and physical examination will be performed on at least 50 persons in the two age groups who fall in the 4 categories described above. Those patients who complete the examination will receive a $20.00 gift certificate. Results of this clinical evaluation will be compared to the telephone survey responses and also data derived from ambulatory encounters to assess the validity of the arthritis case definition. The total burden for this data collection is 750 hours.

Respondents | Number of respondents | Responses per respondents | Average burden (in hours)
Patients—phone survey | 3,000 | 1 | 10/60
Patients—physical exam | 500 | 1 | 30/60

Dated: June 11, 2001.
Chuck Gollmar,
Acting Associate Director for Policy, Planning and Evaluation, Centers for Disease Control and Prevention.

[FR Doc. 01-15356 Filed 6-15-01; 8:45 am]

BILLING CODE 4163-18-P